DEPARTMENT OF THE INTERIOR

Bureau of Land Management

[WYW 72580]

Public Land Order No. 7822; Partial Revocation of Secretarial Order Dated May 2, 1919; Wyoming

AGENCY: Bureau of Land Management, Interior.

ACTION: Public Land Order.

SUMMARY: This order partially revokes a Secretarial Order insofar as it affects 1,106.76 acres of public lands withdrawn on behalf of the Bureau of Reclamation for the Shoshone Reclamation Project.

DATES: The effective date is December 18, 2013.

FOR FURTHER INFORMATION CONTACT: Janelle Wrigley, Realty Officer, Bureau of Land Management, 5353 North Yellowstone Road, Cheyenne, WY 82009, 307-775-6257 or via email at jwrigley@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Reclamation has determined that a portion of the lands withdrawn on its behalf for the Shoshone Reclamation Project is no longer needed for reclamation purposes. The lands will remain closed to settlement, sale, location, or entry under the general land laws, including the United States mining laws, until the Bureau of Land Management completes a planning review.

Order

By virtue of the authority vested in the Secretary of the Interior by Section 204 of the Federal Land Policy and Management Act of 1976, 43 U.S.C. 1714, it is ordered as follows:

The Secretarial Order dated May 2, 1919, which withdrew lands from settlement, sale location, or entry under the general land laws, including the United States mining laws, for the Bureau of Reclamation Shoshone Reclamation Project, is hereby revoked insofar as it affects the following described lands:

Sixth Principal Meridian

T. 53 N., R. 98 W.,

Lots 38A to 38H, inclusive, and lots 39A to 39H, inclusive;

Sec. 34, lots 1 to 4, inclusive and E½.

The areas described aggregate 1,106.76 acres in Park County.

Dated: December 3, 2013.
Rhea S. Suh,
Assistant Secretary—Policy, Management and Budget.

[FR Doc. 2013-30085 Filed 12-17-13; 8:45 am]

BILLING CODE 4310-MN-P